DEPARTMENT OF HEALTH AND HUMAN SERVICES

National Institutes of Health

National Institute of Environmental Health Sciences; Amended Notice of Meeting

Notice is hereby given of a change in the meeting of the National Institute of Environmental Health Sciences Special Emphasis Panel, March 4, 2003, 2:30 p.m. to March 4, 2003, 3:30 p.m., which was published in the Federal Register on January 31, 2003, 68 FR 5031.

The starting time of this meeting has changed from 2:30 p.m., as previously advertised, to 3:30 p.m. The meeting is closed to the public.

Dated: February 11, 2003.
LaVerne Y. Stringfield,
Director, Office of Federal Advisory Committee Policy.

[FR Doc. 03-3891 Filed 2-18-03; 8:45 am]

BILLING CODE 4140-01-M